DEPARTMENT OF AGRICULTURE

U.S. Codex Office

Codex Alimentarius Commission: Meeting of the Codex Committee on Fats and Oils (CCFO)

AGENCY: U.S. Codex Office, USDA.

ACTION: Notice of public meeting and request for comments.

SUMMARY: The U.S Codex Office is sponsoring a public meeting on January 16, 2019. The objective of the public meeting is to provide information and receive public comments on agenda items and draft United States (U.S.) positions to be discussed at the 26th Session of the Codex Committee on Fats and Oils (CCFO) of the Codex Alimentarius Commission, in Kuala Lumpur, Malaysia, February 25-March 1, 2019. The U.S. Manager for Codex Alimentarius and the Under Secretary, Office of Trade and Foreign Agricultural Affairs, recognize the importance of providing interested parties the opportunity to obtain background information on the 26th Session of the CCFO and to address items on the agenda.

DATES: The public meeting is scheduled for Wednesday, January 16, 2019 from 2:00 p.m. to 4:00 p.m. EST.

ADDRESSES: The public meeting will take place in Meeting Room 2B047 at the Center for Food Safety and Applied Nutrition, U.S. Food and Drug Administration, 5001 Campus Drive, College Park, MD 20740-3835. Documents related to the 26th Session of the CCFO will be accessible via the internet at the following address: http://www.codexalimentarius.org/meetings-reports/en.

Paul South, U.S. Delegate to the 26th Session of the CCFO invites U.S. interested parties to submit their comments electronically to the following email address: paul.south@fda.hhs.gov.

Call-In-Number: If you wish to participate in the public meeting for the 6th Session of the CCFO by conference call, please use the call-in-number: 1-888-844-9904 and participant code 5126092.

Registration: Attendees may register to attend the public meeting by emailing Marie.Maratos@osec.usda.gov by January 11, 2019. Early registration is encouraged because it will expedite entry into the building. The meeting will take place in a Federal building. Attendees should bring photo identification and plan for adequate time to pass through the security screening systems. Attendees who are not able to attend the meeting in person, but who wish to participate, may do so by phone, as discussed above.

For Further Information about the 6th Session of the CCFO Contact: U.S. Delegate, Dr. Paul South, Director, Division of Plant Products and Beverages, Office of Food Safety (HFS-317), Center for Food Safety and Applied Nutrition, U.S. Food and Drug Administration, 5001 Campus Drive, College Park, MD 20740-3835, Phone: +1 (240) 402-1640, Fax: +1 (301) 436-2632, Paul.South@fda.hhs.gov.

For Further Information about the Public Meeting Contact: Marie Maratos, U.S. Codex Office, 1400 Independence Avenue SW, Room 4861, South Agriculture Building, Washington, DC 20250. Phone: (202) 690-4795, Fax: (202) 720-3157, Email: Marie.Maratos@osec.usda.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The Codex Committee on Fats and Oils (CCFO) is responsible for elaborating worldwide standards for fats and oils of animal, vegetable, and marine origin, including margarine and olive oil.

The CCFO is hosted by Malaysia. The United States attends CCFO as a member country of Codex.

Issues To Be Discussed at the Public Meeting

The following items on the Agenda for the 26th Session of the CCFO will be discussed during the public meeting:

• Matters referred by the Codex Alimentarius Commission and its subsidiary bodies

• Draft revision to the Standard for Named Vegetable Oils (CXS 210-1999): Addition of Palm Oil with High Oleic Acid (OXG)

• Proposed draft revision to the Standard for Olive Oils and Olive Pomace Oils (CXS 33-1981): Revision of Sections 3, 8, and Appendix

• Proposed draft revision to the Standard for Named Vegetable Oils (CXS 210-1999):

• Change in the Temperature for the Analysis of Refractive Index and Apparent Density of Palm Superolein

• Replacement of acid value with free fatty acids for virgin palm oil and inclusion of free fatty acids for crude palm kernel oil

• Revision of the essential composition of sunflowerseed oils

• Inclusion of walnut oil, almond oil, hazelnut oil, pistachio oil, flaxseed oil, and avocado oil in the Standard for Named Vegetable Oils (CODEX STAN 210-1999)

• Review of the List of Acceptable Previous Cargoes (Appendix II to CXC 36-1987)—Replies to Circular Letter (CL) 2017/61/OCS-CCFO

• Alignment of food additives provisions in standards for fats and oils (except fish oils) and technological justification for use of emulsifiers in Food Category 02.1.2 of the General Standard for Food Additives (GSFA)

• Report on the outcome of monitoring the conformity of named fish oils with the requirements (especially the fatty acid profile) of fish oil standard and its effect on trade (Replies to CL 2017/74-FO)

• Discussion paper on better management of the work of the Codex Committee on Fats and Oils

• Discussion paper on the Inclusion of unrefined edible tallow in the Standard for Named Animal Fats (CODEX STAN 211-1999)

• Discussion paper on the applicability of the fatty acid composition of other oils listed in Table 1 in relation to their corresponding crude form in the Standard for Named Vegetable Oils (CXS 210-1999)

• Discussion paper on the inclusion of free fatty acids as quality characteristics criteria for refined rice bran oil in in the Standard for Named Vegetable Oil (CXS 210-1999)

• Other Business

Public Meeting

At the January 16, 2019, public meeting, draft U.S. positions on the agenda items will be described and discussed, and attendees will have the opportunity to pose questions and offer comments. Written comments may be offered at the meeting or sent to Paul South, U.S. Delegate for the 26th Session of the CCFO (see ADDRESSES). Written comments should state that they relate to activities of the 26th Session of the CCFO.

Additional Public Notification

Public awareness of all segments of rulemaking and policy development is important. Consequently, the U.S. Codex Office will announce this Federal Register publication on-line through the USDA Codex web page located at: http://www.usda.gov/codex, a link that also offers an email subscription service providing access to information related to Codex. Customers can add or delete their subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To File a Complaint of Discrimination, Complete the USDA Program Discrimination Complaint Form, which may be accessed online at http://www.ocio.usda.gov/sites/default/files/docs/2012/Complain_combined_6_8_12.pdf, or write a letter signed by you or your authorized representative.

Send your completed complaint form or letter to USDA by mail, fax, or email.

Mail: U.S. Department of Agriculture, Director, Office of Adjudication, 1400 Independence Avenue SW, Washington, DC 20250-9410.

Fax: (202) 690-7442, Email: program.intake@usda.gov.

Persons with disabilities who require alternative means for communication (Braille, large print, audiotape, etc.) should contact USDA's TARGET Center at (202) 720-2600 (voice and TDD).

Done at Washington, DC, on December 12, 2018.
Mary Lowe,
U.S. Manager for Codex Alimentarius.

[FR Doc. 2018-28187 Filed 12-27-18; 8:45 am]

BILLING CODE P